DEPARTMENT OF HEALTH AND HUMAN SERVICES

Health Resources and Services Administration

White House Initiative on Asian Americans and Pacific Islanders President's Advisory Commission; Notice of Meeting

In accordance with section 10(a)(2) of the Federal Advisory Committee Act (Pub. L. 92-463), announcement is made of the following National Advisory body scheduled to conduct a public meeting by videoconference during the month June 2000.

Name: President's Advisory Commission on Asian Americans and Pacific Islanders (AAPIs).

Date and Time: June 26, 2000; 4:00 p.m.-6:00 p.m. EST.

The meeting is open to the public.

The President's Advisory Commission on AAPIs will conduct a public meeting by videoconference on June 26, from 4:00 p.m. to 6:00 p.m. EST inclusive. The meeting is open to the public; however, teleconference lines are limited. Please call Mr. Tyson Nakashima at (301) 443-2492, if you are interested in participating in the call and to obtain the dial-in number. Agenda items will include, but will not be limited to: Approval of May Commission Meeting minutes; reports from subcommittees; administrative tasks; deadlines; and the upcoming Town Hall and Commission meetings.

The purpose of the Commission is to advise the President on the issues facing Asian Americans and Pacific Islanders (AAPIs). The President's Advisory Commission on AAPIs will be seated through June 7, 2001.

Requests to address the Commission should be made in writing and should include the name, address, telephone number and business or professional affiliation of the interested party. Individuals or groups addressing similar issues are encouraged to combine comments and present through a single representative. The allocation of time for remarks may be adjusted to accommodate the level of expressed interest. Written requests should be faxed to (301) 443-0259. Anyone who has interest in joining any portion of the meeting or who requires additional information about the Commission should contact: Mr. Tyson Nakashima, Office of the White House Initiative on AAPIs, Parklawn Building, Room 10-42, 5600 Fishers Lane, Rockville, MD, 20857, Telephone (301) 443-2492. Anyone who requires special assistance, such as sign language interpretation or other reasonable accommodations, should contact Mr. Nakashima no later than June 19, 2000.

Dated: June 6, 2000.
Jane M. Harrison,
Director, Division of Policy Review and Coordination.

[FR Doc. 00-14807 Filed 6-12-00; 8:45 am]

BILLING CODE 4160-15-P